DEPARTMENT OF AGRICULTURE

Forest Service

Notice of Resource Advisory Committee Meeting

AGENCY: North Central Idaho Resource Advisory Committee, Kamiah, Idaho, USDA, Forest Service.

ACTION: Notice of meeting.

SUMMARY: Pursuant to the authorities in the Federal Advisory Committee Act (Pub. L. 92-463) and under the Secure Rural Schools and Community Self-Determination Act of 2000 (Pub. L. 106-393) the Nez Perce and Clearwater National Forests' North Central Idaho Resource Advisory Committee will meet Wednesday, March 16, 2005 in Grangeville, Idaho for a business meeting. The meeting is open to the public.

FOR FURTHER INFORMATION CONTACT: Ihor Mereszczak, Staff Officer and Designated Federal Officer, at (208) 935-2513.

SUPPLEMENTARY INFORMATION: The business meeting on March 16, at the Super 8 Motel Conference Room, 801 W. S. 1st Street, Grangeville, ID 83530, begins at 10 a.m. (P.S.T.). Agenda topics will include discussion of potential projects. A public forum will begin at 2:30 p.m. (P.S.T.).

Dated: February 14, 2005.
Ihor Mereszczak,
Acting Forest Supervisor.

[FR Doc. 05-3836 Filed 2-28-05; 8:45 am]

BILLING CODE 3410-11-M